DEPARTMENT OF ENERGY

Federal Energy Regulatory Commission

[Docket No. TS19-1-000]

AMP Transmission, LLC; Notice of Filing

Take notice that on October 12, 2018, pursuant to sections 35.28(e)(2) and 358.1(d) and Rules 101(e) and 207 of the Federal Energy Regulatory Commission's (Commission) Rules of Practice and Procedure,¹ AMP Transmission, LLC filed a request for waiver of the Commission's Standard of Conduct and Open Access Same-Time Information System requirements pursuant to the Commission's Order Nos. 888,² 889 ³ and 717.⁴

¹ 18 CFR 35.28(e)(2), 358.1(d), 385.101(e), 385.207 (2018).

² Promoting Wholesale Competition Through Open Access Non-Discriminatory Transmission Services by Public Utilities; Recovery of Stranded Costs by Public Utilities and Transmitting Utilities, Order No. 888, 61 FR 21,539 (May 10, 1996), FERC Stats. & Regs. ¶ 31,036 (1996) (“Order No. 888”), clarified, 76 FERC ¶ 61,009 (1996), modified, Order No. 888-A, 62 FR 12,274 (Mar. 14, 1997), FERC Stats. & Regs. ¶ 31,048 (1997), order on reh'g, Order No. 888-B, 62 FR 64,688 (Dec. 9, 1997), 81 FERC ¶ 61,248 (1997), order on reh'g, Order No. 888-C, 82 FERC ¶ 61,046 (1998), aff'd in part and remanded in part sub nom. Transmission Access Policy Study Grp. v. FERC, 225 F.3d 667 (DC Cir. 2000), aff'd sub nom. New York v. FERC, 535 U.S. 1 (2002).

³ Open Access Same-Time Information System (formerly Real-Time Information Networks) and Standards of Conduct, Order No. 889, 61 FR 21,737 (May 10, 1996), FERC Stats. & Regs. ¶ 31,035 (1996), clarified, 76 FERC ¶ 61,009 (1996), modified, Order No. 889-A, 62 FR 12,484 (Mar. 14, 1997), FERC Stats. & Regs. ¶ 31,049 (1997), reh'g denied, Order No. 889-B, 81 FERC ¶ 61,253 (1997), aff'd in

part and remanded in part sub nom. Transmission Access Policy Study Grp. v. FERC, 225 F.3d 667 (DC Cir. 2000), aff'd sub nom. New York v. FERC, 535 U.S. 1 (2002).

⁴ Standards of Conduct for Transmission Providers, Order No. 717, 73 FR 63,796 (Oct. 27, 2008), FERC Stats. & Regs. ¶ 31,280 (2008), on reh'g, Order No. 717-A, 74 FR 54,463 (Oct. 22, 2009), FERC Stats. & Regs. ¶ 31,297 (2009), clarified, Order No. 717-B, 129 FERC ¶ 61,123 (2009), on reh'g, Order No. 717-C, 131 FERC ¶ 61,045 (2010), on reh'g and clarification, Order No. 717-D, 135 FERC ¶61,017 (2011).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on November 2, 2018.

Dated: October 18, 2018.
Nathaniel J. Davis, Sr.,
Deputy Secretary.

[FR Doc. 2018-23196 Filed 10-23-18; 8:45 am]

BILLING CODE 6717-01-P